DEPARTMENT OF LABOR

Employment and Training Administration

[TA-W-71,120]

Atlas Copco Comptec LLC A Subsidiary of Atlas Copco North America LLC Voorheesville, NY; Amended Certification Regarding Eligibility To Apply for Worker Adjustment Assistance

In accordance with section 223 of the Trade Act of 1974, as amended (“Act”), 19 U.S.C. 2273, the Department of Labor issued a Certification of Eligibility to Apply for Worker Adjustment Assistance on July 13, 2009, applicable to workers of Atlas Copco Comptec LLC, a subsidiary of Atlas Copco North America LLC, including on-site leased workers of Office Team and FPI Mechanical, Voorheesville, New York. The notice will soon be published in the Federal Register.

At the request of company official, the Department reviewed the certification for workers of the subject firm. The workers are engaged in the production of oil free air compressors and Airtec Cores for oil free air compressors used in industrial applications.

The company provided additional information about the company-wide reorganization that was not clearly described in the initial certification. The affected workers were not in the Gas and Process Division. Furthermore, the company official affirmed that the on-site leased workers from Office Team and FPI Mechanical have not been separated nor is there a threat of employment decline for those workers.

Based on these findings, the Department is amending this certification to exclude reference to the Gas and Process Division and on-site leased workers engaged in employment related to gas and process centrifugal compressors. The Department is also amending the certification to add workers engaged in employment related to production of oil free air compressors and Airtec Cores for oil free air compressors used in industrial applications.

The amended notice applicable to TA-W-71,120 is hereby issued as follows:

Conclusion

Workers of Atlas Copco Comptec LLC, a subsidiary of Atlas Copco North America LLC, Voorheesville, New York, engaged in employment related to the production of oil free air compressors and Airtec Cores for oil free air compressors, who became totally or partially separated from employment on or after June 3, 2008, through July 13, 2011, and all workers in the group threatened with total or partial separation from employment on date of certification through two years from the date of certification, are eligible to apply for adjustment assistance under Chapter 2 of Title II of the Trade Act of 1974, as amended.

Signed in Washington, DC, this 3rd day of September, 2009.
Linda G. Poole,
Certifying Officer, Division of Trade Adjustment Assistance.

[FR Doc. E9-22746 Filed 9-21-09; 8:45 am]

BILLING CODE 4510-FN-P